DEPARTMENT OF TRANSPORTATION

Federal Aviation Administration

Notice of Intent To Rule on Application 05-04-C-00-BOS To Impose and Use the Revenue From a Passenger Facility Charge (PFC) at General Edward Lawrence Logan International Airport, East Boston, MA

AGENCY: Federal Aviation Administration (FAA), DOT.

ACTION: Notice of intent to rule on application.

SUMMARY: The FAA proposes to rule and invites public comment on the application to impose and use the revenue from a PFC at General Edward Lawrence Logan International Airport under the provisions of the 49 U.S.C. 40117 and Part 158 of the Federal Aviation Regulations (14 CFR part 158).

DATES: Comments must be received on or before date, which is 30 days after date of publication in the Federal Register.

ADDRESSES: Comments on this application may be mailed or delivered in triplicate to the FAA at the following address: Ms. Priscilla Scott, PFC Program Manager, Federal Aviation Administration, Airports Division, 12 New England Executive Park, Burlington, Massachusetts 01803.

In addition, one copy of any comments submitted to the FAA must be mailed or delivered to Mr. Craig Coy, CEO and Executive Director of the Massachusetts Port Authority at the following address: One Harborside Drive, Suite 200S, East Boston, Massachusetts 02128.

Air carriers and foreign air carriers may submit copies of written comments previously provided to the Massachusetts Port Authority under section 158.23 of part 158.

FOR FURTHER INFORMATION CONTACT: Priscilla Scott, PFC Program Manager, Federal Aviation Administration, Airports Division, 12 New England Executive Park, Burlington, Massachusetts 01803, (781) 238-7614. The application may be reviewed in person at 16 New England Executive Park, Burlington, Massachusetts. The application may be reviewed in person at this same location.

SUPPLEMENTARY INFORMATION: The FAA proposes to rule and invites public comment on the application to impose and use the revenue from a PFC at General Edward Lawrence Logan International Airport under the provisions of the 49 U.S.C. 40117 and Part 158 of the Federal Aviation Regulations (14 CFR part 158).

On January 4, 2006, the FAA determined that the application to impose and use the revenue from a PFC submitted by the Massachusetts Port Authority was substantially complete within the requirements of section 158.25 of part 158. The FAA will approve or disapprove the application, in whole or in part, no later than April 5, 2006.

The following is a brief overview of the application.

Proposed charge effective date: February 1, 2011.

Proposed charge effective date: February 1, 2016.

Level of the proposed PFC: $3.00.

Total estimated PFC revenue: $112,298,000.

Brief description of proposed project(s): Construct Elevated Walkways.

Level of the proposed PFC: $4.50.

Total estimated PFC revenue: $180,718,000.

Brief description of proposed project(s): Residential sound insulation, construction of runway 14-32 and associated taxiways, southwest taxiway improvements, runways 4L-22R and 4R-22L improvements, reconstruction of aprons and alleyways at terminal B, C, and D, security improvements, centerfield taxiway construction, airfield drainage improvements and airfield perimeter road improvements.

Class or classes of air carriers, which the public agency has requested, not be required to collect PFCs: Non-Schedules/On-Demand Air Carriers.

Any person may inspect the application in person at the FAA office listed above under FOR FURTHER INFORMATION CONTACT.

In addition, any person may, upon request, inspect the application, notice and other documents germane to the application in person at the Massachusetts Port Authority.

Issued in Burlington, Massachusetts on February 1, 2006.
LaVerne F. Reid,
Manager, Airports Division, New England Region.

[FR Doc. 06-1426 Filed 2-14-06; 8:45 am]

BILLING CODE 4910-13-M